DEPARTMENT OF THE INTERIOR

Bureau of Land Management

[LLORB00000.L17110000.PH0000.L.X.SS.020H0000.13XL1109AF; HAG13-0011]

Steens Mountain Advisory Council; Meetings

AGENCY: Bureau of Land Management, Interior.

ACTION: Notice of public meetings.

SUMMARY: In accordance with the Federal Land Policy and Management Act and the Federal Advisory Committee Act of 1972, and the U.S. Department of the Interior, Bureau of Land Management (BLM), the Steens Mountain Advisory Council (SMAC) will meet as indicated below:

DATES: The SMAC will tentatively hold public meetings November 29-30, 2012 in Bend, Oregon; February 21-22, 2013 in Burns, Oregon; May 9-10, 2013 in Diamond, Oregon; August 15-16, 2013 in Frenchglen, Oregon; and November 14-15, 2013 in Burns, Oregon. Public comment periods will be scheduled each day of each meeting. Logistical details and a complete agenda for each session will be available 2-4 weeks prior to the session. Meeting dates, times, locations, and the duration scheduled for public comment periods may be extended or altered when the authorized representative considers it necessary to accommodate necessary business and all who seek to be heard regarding matters before the SMAC.

FOR FURTHER INFORMATION CONTACT: Tara Martinak, Public Affairs Specialist, BLM Burns District Office, 28910 Highway 20 West, Hines, Oregon 97738-9424, (541) 573-4519, or email tmartina@blm.gov. Persons who use a telecommunications device for the deaf (TDD) may call the Federal Information Relay Service (FIRS) at 1(800) 877-8339 to contact the above individual during normal business hours. The FIRS is available 24 hours a day, 7 days a week, to leave a message or question with the above individual. You will receive a reply during normal business hours.

SUPPLEMENTARY INFORMATION: The SMAC was initiated August 14, 2001, pursuant to the Steens Mountain Cooperative Management and Protection Act (CMPA) of 2000 (Pub. L. 106-399). The SMAC provides representative counsel and advice to the BLM regarding new and unique approaches to management of the land within the bounds of the Steens Mountain CMPA; recommending cooperative programs and incentives for landscape management that meet human needs, and the maintenance and improvement of the ecological and economic integrity of the area. Tentative agenda items for the upcoming meetings include but are not limited to: Fencing in and around the No Livestock Grazing Area within the Steens Mountain Wilderness; current and potential litigation; the North Steens Transmission Line Project; the Blizten Stewardship contract; projects in the Wildlands Juniper Management Area; wildfire, emergency stabilization and rangeland rehabilitation; wild horses and wild horse management; land exchanges and acquisitions, the Steens Mountain Comprehensive Recreation Plan; the South Steens Allotment Management Plan; the Chimney Allotment Management Plan; and planning future meeting agendas, dates, and locations. Any other matters that may reasonably come before the SMAC may also be addressed. This meeting is open to the public in its entirety. Information to be distributed to the SMAC is requested prior to the start of each meeting.

Before including your address, phone number, email address, or other personal identifying information in your comments, please be aware that your entire comment—including your personal identifying information—may be made publicly available at any time. While you can ask us in your comment to withhold your personal identifying information from public review, we cannot guarantee that we will be able to do so.

Brendan Cain,
Burns District Manager.

[FR Doc. 2012-26891 Filed 11-2-12; 8:45 am]

BILLING CODE 4310-33-P